NUCLEAR REGULATORY COMMISSION

Sunshine Federal Register Notice

Agency Holding the Meetings: Nuclear Regulatory Commission.

Date: Week of April 28, 2008.

Place: Commissioners' Conference Room, 11555 Rockville Pike, Rockville, Maryland.

Status: Public and Closed.

Additional Matters to be Considered:

Week of April 28, 2008

Wednesday, April 30, 2008

12:55 p.m., Affirmation Session (Public Meeting) (Tentative).

a. Indian Point Nuclear Generating Units 2 and 3, Docket Nos. 50-247-LR and 50-286-LR; WestCAN “Petition for Review” of Board Order denying oral argument on contention admissibility in the Indian Point license renewal proceeding (Tentative).

b. Pacific Gas and Electric Co. Diablo Canyon ISFSI, San Luis Obispo Mothers for Peace's Motion for Reconsideration of CLI-08-05 & San Luis Obispo Mothers for Peace's Request for Admission of Late-Filed Contention 6 Re Diablo Canyon Environmental Assessment (Tentative).

This meeting will be webcast live at the Web address— http://www.nrc.gov.

* * * * *

*The schedule for Commission meetings is subject to change on short notice. To verify the status of meetings call (recording)—(301) 415-1292. Contact person for more information: Michelle Schroll, (301) 415-1662.

* * * * *

Additional Information

By a vote of 4-0 on April 24 and 25, 2008, the Commission determined pursuant to U.S.C. 552b(e) and § 9.107(a) of the Commission's rules that “Affirmation of: a. Indian Point Nuclear Generating Units 2 and 3, Docket Nos. 50-247-LR and 50-286-LR; WestCAN “Petition for Review” of Board Order denying oral argument on contention admissibility in the Indian Point license renewal proceeding (Tentative) and b. Pacific Gas and Electric Co. Diablo Canyon ISFSI, San Luis Obispo Mothers for Peace's Motion for Reconsideration of CLI-08-05 & San Luis Obispo Mothers for Peace's Request for Admission of Late-Filed Contention 6 Re Diablo Canyon Environmental Assessment (Tentative)” be held April 30, 2008, and on less than one week's notice to the public.

* * * * *

The NRC Commission Meeting Schedule can be found on the Internet at: http://www.nrc.gov/about-nrc/policy-making/schedule.html.

* * * * *

The NRC provides reasonable accommodation to individuals with disabilities where appropriate. If you need a reasonable accommodation to participate in these public meetings, or need this meeting notice or the transcript or other information from the public meetings in another format (e.g. braille, large print), please notify the NRC's Disability Program Coordinator, Rohn Brown, at 301-415-2279, TDD: 301-415-2100, or by e-mail at Rohn.Brown@nrc.gov. Determinations on requests for reasonable accommodation will be made on a case-by-case basis.

* * * * *

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to dkw@nrc.gov.

Dated: April 28, 2008.
R. Michelle Schroll,
Office of the Secretary.

[FR Doc. 08-1204 Filed 4-29-08; 10:58 am]

BILLING CODE 7590-01-P